DEPARTMENT OF LABOR

Employment and Training Administration

Investigations Regarding Eligibility To Apply for Trade Adjustment Assistance

In accordance with the Trade Act of 1974 (19 U.S.C. 2271, et seq.) (“Act”), as amended, the Department of Labor herein presents notice of investigations regarding eligibility to apply for trade adjustment assistance under Chapter 2 of the Act (“TAA”) for workers by (TA-W) started during the period of June 1 2021 through June 30 2021.

This notice includes instituted initial investigations following the receipt of validly filed petitions. Furthermore, if applicable, this notice includes investigations to reconsider negative initial determinations or terminated initial investigations following the receipt of a valid application for reconsideration.

The purpose of each of the investigations is to determine whether the workers are eligible to apply for adjustment assistance under Title II, Chapter 2, of the Act. Any persons showing a substantial interest in the subject matter of the investigations may request a public hearing provided such request is filed in writing with the Administrator, Office of Trade Adjustment Assistance, at the address shown below, no later than ten days after publication in the Federal Register.

Initial Investigations

The following are initial investigations commenced following the receipt of a properly filed petition.

TA-W No. | Workers' firm | Location | Investigation start date
96917 | Hanesbrands, Inc | Stuart, VA | 6/1/2021
96918 | T.D.R.N. Inc | Spalding, MI | 6/1/2021
96919 | Wells Fargo Bank N.A | Glen Allen, VA | 6/1/2021
96920 | Stanley Furniture LLC | Martinsville, VA | 6/1/2021
96921 | Siemens Gamesa Renewable Energy | Hutchinson, KS | 6/2/2021
96922 | CSG Systems, Inc | Elkhorn, NE | 6/2/2021
96923 | OECO, LLC/Meggitt | Milwaukie, OR | 6/2/2021
96924 | Mondelez International Inc. Atlanta Bakery | Atlanta, GA | 6/3/2021
96925 | Albea Cosmetics America | Morristown, TN | 6/3/2021
96926 | Steel Parts Manufacturing Inc | Tipton, IN | 6/3/2021
96927 | Mitsubishi Aircraft Corporation America Inc | Renton, WA | 6/3/2021
96928 | Granges Americas, Inc | Newport, AR | 6/4/2021
96929 | Aventics Corporation | Lexington, KY | 6/4/2021
96930 | Aleris Rolled Products, Inc | Uhrichsville, OH | 6/4/2021
96931 | Worthington Industries | Worthington, OH | 6/4/2021
96932 | Dun and Bradstreet | Center Valley, PA | 6/4/2021
96933 | Eaton Corporation | Hastings, NE | 6/7/2021
96934 | Perform Group LLC | York, PA | 6/7/2021
96935 | Prudential | Dubuque, IA | 6/7/2021
96936 | North Texas PPE | Lewisville, TX | 6/8/2021
96937 | Prudential Financial | Hartford, CT | 6/9/2021
96938 | ST Genetics | Ithaca, NY | 6/10/2021
96939 | Ethan Allen Global, Inc | Danbury, CT | 6/10/2021
96940 | HCL America | Houston, TX | 6/10/2021
96941 | Aleris Rolled Products, Inc | Lincolnshire, IL | 6/10/2021
96942 | HERE Technologies | Chicago, IL | 6/11/2021
96943 | Molded Fiber Glass | Aberdeen, SD | 6/11/2021
96944 | Hufcor, Inc | Janesville, WI | 6/11/2021
96945 | Unum | Portland, ME | 6/11/2021
96946 | Clarios | Middletown, DE | 6/11/2021
96947 | Collins Aerospace | Jamestown, ND | 6/14/2021
96948 | Nabors Drilling USA LP | Williston, ND | 6/14/2021
96949 | Tecumseh Products Company LLC | Paris, TN | 6/15/2021
96950 | Dometic Corporation | Elkhart, IN | 6/15/2021
96951 | Premium PPE | Virginia Beach, VA | 6/15/2021
96952 | Solstice Sleep Products Inc | Columbus, OH | 6/16/2021
96953 | Serta Simmons Bedding | Monroe, OH | 6/16/2021
96954 | Heritage Sleep Products LLC | Orwell, OH | 6/16/2021
96955 | Genesis Alkali | Green River, WY | 6/16/2021
96956 | U.S. Bank National Association | Oshkosh, WI | 6/16/2021
96957 | Protective Health Gear | Paterson, NJ | 6/16/2021
96958 | Cooper Lighting LLC | Vicksburg, MS | 6/17/2021
96959 | Highly Marelli USA, Inc | Madison, MS | 6/17/2021
96960 | Genlyte Thomas Group LLC/Day—Brite/Signify | Tupelo, MS | 6/17/2021
96961 | Mississippi Silicon LLC | Burnsville, MS | 6/17/2021
96962 | NHI (New Hampshire Industries) | Claremont, NH | 6/17/2021
96963 | Liberty Mutual Group Inc | Dover, NH | 6/17/2021
96964 | GE Aviation | Hooksett, NH | 6/17/2021
96965 | ON Semiconductor | Gresham, OR | 6/21/2021
96966 | D6 Inc | Portland, OR | 6/21/2021
96967 | Data Axle (formerly Infogroup) | Papillion, NE | 6/21/2021
96968 | Jacobs Engineering Group, Inc | Englewood, CO | 6/21/2021
96969 | Anthem, Inc | Columbus, OH | 6/21/2021
96970 | Texarkana Aluminum/TCI | Texarkana, TX | 6/21/2021
96971 | Vector USA, Inc | Kentland, IN | 6/21/2021
96972 | Golden Aluminum, Inc | Fort Lupton, CO | 6/21/2021
96973 | Ashley Furniture Industries, Inc | Saltillo, MS | 6/21/2021
96974 | Ashley Furniture Industries, Inc | Verona, MS | 6/21/2021
96975 | Capital Bedding Inc | Verona, MS | 6/21/2021
96976 | Vector USA, Inc | Kentland, IN | 6/21/2021
96977 | Rest Assured Mattress Co. Inc | Rochester, MN | 6/21/2021
96978 | Technicolor USA Inc. (formerly Thomson Multimedia) | Culver City, CA | 6/21/2021
96979 | HP Inc. Puerto Rico | Aguadilla Pueblo, PR | 6/22/2021
96980 | Mars | Hackettstown, NJ | 6/22/2021
96981 | Leadec Corporation | Wentzville, MO | 6/23/2021
96982 | Pendleton Woolen Mills, Inc | Pendleton, OR | 6/23/2021
96983 | HP Inc. Puerto Rico | Aguadilla, PR | 6/23/2021
96984 | The Mosaic Company | Lithia, FL | 6/23/2021
96985 | Leggett & Platt, Inc | Tupelo, MS | 6/23/2021
96986 | Serta Simmons Bedding LLC | Kapolei, HI | 6/23/2021
96987 | Champion Technologies, Inc | Eugene, OR | 6/23/2021
96988 | FXI, Inc | Portland, OR | 6/23/2021
96989 | GE Aviation | Newark, DE | 6/24/2021
96990 | HollyFrontier Cheyenne Refining LLC | Cheyenne, WY | 6/24/2021
96991 | Mattress Mill | Bozeman, MT | 6/24/2021
96992 | Elite Comfort Solutions, LLC | Verona, MS | 6/24/2021
96993 | Innocor Inc | Baldwyn, MS | 6/24/2021
96994 | AT&T Services, Inc | Oakton, VA | 6/24/2021
96995 | Baker Hughes, Inc | Prudhoe Bay, AK | 6/24/2021
96996 | Lear Corporation | Morristown, TN | 6/24/2021
96997 | Arconic Corporation | Riverdale, IA | 6/24/2021
96998 | Clearwater Paper Company | Neenah, WI | 6/24/2021
96999 | Old West Mattress Company LLC | Aurora, CO | 6/24/2021
97001 | Mylan Technologies, Inc | Swanton, VT | 6/24/2021
97002 | Arconic Mill Products | Elmendorf, TX | 6/25/2021
97003 | Microsoft Corporation | Fargo, ND | 6/25/2021
97004 | Doyon Drilling, Inc | Anchorage, AK | 6/25/2021
97005 | ExxonMobil Alaska | Anchorage, AK | 6/25/2021
97006 | Halliburton Energy Services HESI | Prudhoe Bay, AK | 6/25/2021
97007 | T-Mobile | Honolulu, HI | 6/25/2021
97008 | Salt Lake Mattress and Manufacturing Company DBA Serta Restonic, Sunset Apparel, Sunset Manufacture | Salt Lake City, UT | 6/25/2021
97009 | Purple Innovations, Inc | Lehi, UT | 6/25/2021
97010 | Comfort Revolution, LLC | Belmont, MS | 6/25/2021
97011 | Biodex Medical Systems | Shirley, NY | 6/25/2021
97012 | Symbol Mattress | Olive Branch, MS | 6/25/2021
97013 | Hilcorp Alaska LLC | Prudhoe Bay, AK | 6/25/2021
97014 | Serta Simmons Bedding LLC | Aurora, CO | 6/25/2021
97015 | Marathon Petroleum Corporation | Kenai, AK | 6/25/2021
97016 | National Life Insurance Company | Montpelier, VT | 6/25/2021
97017 | Peak Oilfield Services Company | Prudhoe Bay, AK | 6/25/2021
97018 | Schlumberger Technology Corporation | Prudhoe Bay, AK | 6/28/2021
97019 | Tenneco Inc | Jeffersonville, IN | 6/28/2021
97020 | DemeTech Corporation | Miami Lakes, FL | 6/28/2021
97021 | Microchip Technology, Inc | Gresham, OR | 6/28/2021
97022 | ConocoPhillips Alaska | Anchorage, AK | 6/28/2021
97023 | Berg Pipe | Panama City, FL | 6/28/2021
97024 | Corsicana Bedding, LLC | Aurora, IL | 6/28/2021
97025 | Petro Star, Inc | North Pole, AK | 6/29/2021
97026 | Keurig Green Mountain, Inc | Essex Junction, VT | 6/29/2021
97027 | McCall Pattern Company | Manhattan, KS | 6/29/2021
97028 | A-dec, Inc | Newberg, OR | 6/29/2021
97029 | Eastern Sleep Products Company (Symbol Mattress) | North Chesterfield, VA | 6/29/2021
97030 | Liberty Mutual Group, Inc | Dover, NH | 6/29/2021
97031 | McKesson Corporation | Minneapolis, MN | 6/29/2021
97032 | ON Semiconductor | South Portland, ME | 6/29/2021
97033 | IKO Wilmington | Wilmington, DE | 6/29/2021
97034 | Serta Simmons Bedding, LLC | Riviera Beach, FL | 6/29/2021
97035 | Solenis LLC | Wilmington, DE | 6/29/2021
97036 | Anthem Companies Inc | Richmond, VA | 6/29/2021
97037 | Anthem Companies Inc | Norfolk, VA | 6/29/2021
97038 | Estee Bedding Company | Chicago, IL | 6/29/2021
97039 | Tempur Sealy International, Inc. (Mattress Firm) | Plainfield, IL | 6/29/2021
97040 | Cummins Inc | Memphis, TN | 6/29/2021
97041 | Innocor, lnc. | West Chicago, IL | 6/29/2021
97042 | Anthem Companies Inc | Denver, CO | 6/29/2021
97043 | Love's Bakery, Inc | Honolulu, HI | 6/29/2021
97044 | Sonwil Distribution Center, Inc | Orchard Park, NY | 6/30/2021
97045 | Durr Universal, Inc | Muscoda, WI | 6/30/2021
97046 | QVC, Inc | West Chester, PA | 6/30/2021
97047 | Bombardier Mass Transit Corporation | Plattsburgh, NY | 6/30/2021
97048 | 3P Processing | Wichita, KS | 6/30/2021
97049 | GE Aviation | Rutland, VT | 6/30/2021
97050 | Honeywell International | Smithfield, RI | 6/30/2021
97051 | Hess Corporation, Bakken Operations | Minot, ND | 6/30/2021
97052 | Briggs & Stratton Corporation | Wauwatosa, WI | 6/30/2021
97053 | Palisades Nuclear Power Plant | Covert, MI | 6/30/2021
97054 | The Bellingham Herald Publishing LLC | Bellingham, WA | 6/30/2021
97055 | Collins Aerospace | Everett, WA | 6/30/2021
97056 | Cognizant Technology Solutions Corporation | Earth City, MO | 6/30/2021
97057 | WindKits LLC | Allentown, PA | 6/30/2021
97058 | Harley Davidson Assembly Plant | Kansas City, MO | 6/30/2021
97059 | Top Master dba Premier Surfaces | Riverside, MO | 6/30/2021
97060 | Enervest Ltd | Houston, TX | 6/30/2021
97061 | Katerra, Inc | Centennial, CO | 6/30/2021

Reconsideration Investigations

The following are reconsideration investigations following the receipt of a properly filed application for reconsideration.

TA-W No. | Workers' firm | Location | Investigation start date
96803 | Wabtec Corporation | Wilmerding, PA | 6/10/2021

A record of these investigations and petitions filed are available, subject to redaction, on the Department's website https://www.dol.gov/agencies/eta/tradeact under the searchable listing or by calling the Office of Trade Adjustment Assistance toll free at 888-365-6822.

Signed at Washington, DC, this 7th day of 2021.
Hope D. Kinglock,
Certifying Officer, Office of Trade Adjustment Assistance.

[FR Doc. 2021-16297 Filed 7-29-21; 8:45 am]

BILLING CODE 4510-FN-P